DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for date sanctions became effective.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On March 26, 2020, OFAC determined that the property and interests in property subject to U.S. jurisdiction of the following persons are blocked under the relevant sanctions authority(ies) listed below. Dealings in property subject to U.S. jurisdiction in which a person identified as blocked pursuant to the relevant sanctions authority(ies) has an interest are prohibited effective as of the date of that status, which may be earlier than the date of OFAC's determination.

Individual

KHAMENEI, Ali Husseini, Iran; DOB 19 Apr 1939; POB Mashhad, Iran; Additional Sanctions Information—Subject to Secondary Sanctions; Supreme Leader of Iran (individual) [IRAN-EO13876].

Identified pursuant to section 1(a)(i) of E.O. 13876, 84 FR 30576, June 24, 2019, as the SUPREME LEADER OF THE ISLAMIC REPUBLIC OF IRAN.

Dated: May 1, 2020.
Bradley T. Smith,
Deputy Director, Office of Foreign Assets Control.

[FR Doc. 2020-12646 Filed 6-10-20; 8:45 am]

BILLING CODE 4810-AL-P